DEPARTMENT OF ENERGY

National Nuclear Security Administration

Floodplain Statement of Findings for the Wildfire Hazard Reduction and Forest Health Improvement Program Projects at Los Alamos National Laboratory, Los Alamos, New Mexico

AGENCY: National Nuclear Security Administration, Los Alamos Area Office, DOE.

ACTION: Floodplain statement of findings.

SUMMARY: This is a Floodplain Statement of Findings for the implementation of individual projects using mechanical and manual thinning methods to treat the forests at Los Alamos National Laboratory (LANL), in an effort to reduce fuel loading and wildfire hazards, and to improve the overall forest health. This Statement of Findings is prepared in accordance with 10 CFR Part 1022. The National Nuclear Security Administration (NNSA) plans to implement ecosystem-based management program projects over the next 18 to 36 months, or until completed, that will be followed by periodic maintenance projects to retain the desired end-state for wildfire risk reduction with enhancements to improve forest health. The projects will include construction of access roads and fuel breaks as treatment measures. Wood materials generated by the treatment measures will be either donated or salvaged; wood waste materials will primarily be disposed of through chipping and use on-site or by burning in pits with the use of an air curtain destructor. Implementation of these projects will include areas of forest located on mesa tops, along canyon sides, and in canyon bottoms, including floodplain areas (but excluding wetland areas), located within LANL boundaries in Los Alamos and Santa Fe Counties, New Mexico. NNSA prepared a floodplain assessment describing the effects, alternatives, and measures designed to avoid or minimize potential harm to or within the affected floodplains.

FOR FURTHER INFORMATION CONTACT: Elizabeth Withers, Department of Energy, National Nuclear Security Administration, Los Alamos Area Office, 528 35th Street, Los Alamos, NM 87544. Telephone: (505) 667-8690; Facsimile: (505) 667-9998; electronic address: ewithers@doeal.gov. For further information on general DOE floodplain environmental review requirements, contact: Carol M. Borgstrom, Director, Office of NEPA Policy and Compliance, EH-42, Department of Energy, 1000 Independence Avenue, SW., Washington DC 20585-0119. Telephone (202) 586-4600 or (800) 472-2756; facsimile (202) 586-7031.

SUPPLEMENTARY INFORMATION: A Notice of Floodplain Involvement was published in the Federal Register on June 29, 2001; this Notice announced that the Floodplain Assessment to be prepared would be available in hard copy upon request or electronically at: http://libwww.lanl.gov/pubs/Environment.htm.

The LANL program projects will be composed of a series of strategically planned projects located over most of LANL (see figure). These program projects will be implemented in three phases, which will treat about 10,000 acres, representing about 35 percent of the total of LANL. The phases are as follows: Phase 1 (high priority strategic projects, primarily fuel breaks, in heavily forested urban interface areas to reduce the wildfire hazard to the public, LANL employees, and key facilities and infrastructure); Phase 2 (moderate priority, larger forest fuels reduction projects in heavily forested areas to reduce the general wildfire hazard and improve forest health); and Phase 3 (lower priority, larger forest fuels reduction projects in more moderately forested and remote areas to reduce wildfire hazard in general and improve forest health). Each project as it is developed will follow certain planning steps that include formulating a plan of action that will identify and assess potential risks and environmental concerns and formulating a reasoned treatment plan. These plans will include facility and forest fire hazard assessment, identification of resource issues, coordination with neighboring land management agencies and land owners, development of end-state conditions, and formulation of treatment and environmental protection measures. Treatment measures will be identified for each project including the equipment and involved job performances, and types of treatment measures to be performed based on the forest and site conditions in the project area. Integral to treatment measures will be complementary measures to protect public health and welfare and to protect and enhance cultural and natural resources. Worker protection and health and safety measures, cultural resource protection measures, air quality protection measures, water quality protection measures, threatened and endangered species protection measures, as well as other biological resources protection measures will be employed on each project. Wood materials generated from the treatment activities will be disposed of by donation or salvage, or may be contracted for to offset program operational costs; wastes will be disposed of on-site by chipping and reuse as mulch, by burning within pits using air curtain destructor devices to enhance the burning process, or at on-site or off-site waste disposal facilities. Post-treatment assessments will be conducted for each project area that will include some or all of the following: end-state conditions assessment, fuel load inventories, ecological field studies, watershed assessment and monitoring, and data analysis and modeling. Maintenance measures will be implemented on project areas at least once every 5 years (or as necessary) to maintain the desired end-state conditions of the forests at LANL. These maintenance measures will include the type of treatment measures used to initially treat an area and may also include periodic mowing and the maintenance of access roads.

The forest thinning project actions are proposed to be located within floodplains due to the need to reduce fuel loading in the canyon areas, especially near LANL facilities and areas of urban interface. Thinning within the canyon floodplains will be conducted in a mosaic pattern to reduce the likelihood of catastrophic wildfires while maintaining the beneficial floodplain properties with regards to wetlands protection and soil erosion retardation. The Final Environmental Assessment for the Wildfire Hazard Reduction and Forest Health Improvement Program at Los Alamos National Laboratory, Los Alamos, New Mexico (DOE/EA 1329) considered three alternatives, all of which included thinning actions in floodplains: the Proposed Action (the No Burn Alternative); the Limited Burn Alternative (Waste Only); and the Burn Alternative (Both Treatment and Forest Waste). The NNSA has issued Findings of No Significant Impacts (FONSI's) for the No Burn and the Limited Burn Alternatives and now plans to implement the Limited Burn Alternative. The only other alternative considered was the No Action Alternative. Both the No Burn and the Limited Burn Alternatives conform to applicable State or local floodplain protection standards.

Issued in Los Alamos, New Mexico on July 17, 2001.
David A. Gurulé, P.E.,
Area Manager, Department of Energy, National Nuclear Security Administration, Los Alamos Area Office.

BILLING CODE 6450-01-P

[FR Doc. 01-18379 Filed 7-23-01; 8:45 am]

BILLING CODE 6450-01-C